SMALL BUSINESS ADMINISTRATION

Region 1—Maine District Advisory Council; Public Meeting

The U.S. Small Business Administration Maine District Advisory Council, located in the geographical area of Augusta, Maine will hold a public meeting on Wednesday, March 22, 2006, starting at 10 a.m. The meeting will be held at the Care & Comfort, 180 Main Street, Waterville, Maine to discuss such matters as may be presented by members, staff of the U.S. Small Business Administration, or others present.

For further information, write or call Mary McAleney, District Director, U.S. Small Business Administration, 68 Sewall Street, Room 512, Augusta, Maine 04330, (207)-622-8386 phone, (207)-622-8277 fax.

Matthew K. Becker,
Committee Management Officer.

[FR Doc. E6-3106 Filed 3-3-06; 8:45 am]

BILLING CODE 8025-01-P